ENVIRONMENTAL PROTECTION AGENCY

40 CFR Part 180

[EPA-HQ-OPP-2002-0043; FRL-8131-3]

Pesticide Tolerance Nomenclature Changes; Technical Amendment

AGENCY: Environmental Protection Agency (EPA).

ACTION: Final rule; technical amendment.

SUMMARY: This document removes duplicate entries in terminology of certain commodity terms listed under 40 CFR part 180, subpart C. EPA is taking this action to establish a uniform listing of commodity terms.

DATES: This Final Rule is effective on June 29, 2007.

ADDRESSES: EPA has established a docket for this action under docket identification (ID) number EPA-HQ-OPP-2002-0043. All documents in the docket are listed in the index for the docket. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Building), 2777 S. Crystal Drive, Arlington, VA. The Docket Facility is open from 8:30 a.m. to 4 p.m., Monday through Friday, excluding legal holidays. The Docket telephone number is (703) 305-5805.

FOR FURTHER INFORMATION CONTACT: Stephen Schaible, Registration Division (7505P), Office of Pesticide Programs, Environmental Protection Agency, 1200 Pennsylvania Ave., NW., Washington, DC 20460-0001; telephone number: (703) 308-9362; fax number: (703) 305-6920; e-mail address: schaible.stephen@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111), e.g., agricultural workers; greenhouse, nursery, and floriculture workers; farmers.

• Animal production (NAICS code 112), e.g., cattle ranchers and farmers, dairy cattle farmers, livestock farmers.

• Food manufacturer (NAICS code 311), e.g., agricultural workers; farmers; greenhouse, nursery, and floriculture workers; ranchers; pesticide applicators.

• Pesticide manufacturer (NAICS code 32532), e.g., agricultural workers; commercial applicators; farmers; greenhouse, nursery, and floriculture workers; residential users.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of this Document?

In addition to accessing an electronic copy of this Federal Register document through the electronic docket at http://www.regulations.gov, you may access this “Federal Register” document electronically through the EPA Internet under the “Federal Register” listings at http://www.epa.gov/fedrgstr. You may also access a frequently updated electronic version of 40 CFR part 180 through the Government Printing Office's pilot e-CFR site at http://www.gpoaccess.gov/ecfr.

II. Background

A. What Action is the Agency Taking?

In this rule, EPA is removing certain duplicate tolerance entries listed under 40 CFR part 180, subpart C, as follows:

1. In § 180.106, in the table to paragraph (a), EPA is removing one of the two duplicate entries for “Rye, forage.”

2. In § 180.111, in the table to paragraph (a)(1), EPA is removing the entry for “Almond, shells” at 50 ppm. A tolerance is established for the appropriate commodity term “Almond, hulls” at 50 ppm.

3. In § 180.121, in the table to paragraph (e), EPA is removing one of the two duplicate entries for “Peach.”

4. In § 180.163, in the table to paragraph (a), EPA is removing the entry for “Hay, spearmint” at 25 ppm. A tolerance is established for the appropriate commodity term “Spearmint, tops” at 25 ppm.

5. In § 180.220, in the table to paragraph (a)(1), EPA is removing one of the two duplicate entries for “Wheat, straw.”

6. In § 180.213, in the table to paragraph (a)(1), EPA is removing the entry for “Alfalfa” at 15 ppm. Tolerances are established for the appropriate commodities “Alfalfa, forage” at 15 ppm and “Alfalfa, hay” at 15 ppm.

7. In § 180.213, in the table to paragraph (a)(1) EPA is making the following changes:

i. EPA is removing the entry for “Bermuda grass” at 15 ppm. Tolerances are established for the appropriate commodities “Bermudagrass, forage” at 15 ppm and “Bermudagrass, hay” at 15 ppm.

ii. EPA is also removing the entry for “Grass” at 15 ppm. Tolerances are established for the appropriate commodities “Grass, forage” at 15 ppm and “Grass, hay” at 15 ppm.

8. In § 180.227, in the table to paragraph (a)(1), EPA is making the following changes:

i. EPA is removing the entry for “Corn, forage” at 0.05 ppm. A tolerance is established for the appropriate commodity “Corn, field, forage” at 3.0 ppm.

ii. EPA is also removing the entry for “Corn, stover” at 0.5 ppm. Tolerances are established for the appropriate commodities “Corn, field, stover” at 3.0 ppm and “Corn, pop, stover” at 3.0 ppm.

9. In § 180.253, in the table to paragraph (a), EPA is removing one of the two duplicate entries for “Rye, forage.”

10. In § 180.324, in the table to paragraph (a)(1), EPA is removing one of the two duplicate entries for “Corn, field, stover.”

11. In § 180.408, in the table to paragraph (a), EPA is removing one of the two duplicate entries for “Peanut, hay;” in the table to paragraph (d) EPA is removing one of two identical entries for “Oat, straw;” and “Wheat, straw.”

12. In § 180.462, the table to paragraph (a), EPA is removing the entry for “Corn, forage”.

13. In § 180.484, the table to paragraph (a)(1), EPA is removing the entry for “Goat, milk“; “Hog, milk” and “Horse, milk” at 0.05 ppm. A tolerance is established for the appropriate commodity “Milk”at 0.05 ppm.

B. Why is this Technical Amendment Issued as a Final Rule?

Section 553 of the Administrative Procedure Act (APA), 5 U.S.C. 553(b)(B), provides that, when an agency for good cause finds that notice and public procedure are impracticable, unnecessary or contrary to the public interest, the agency may issue a rule without providing notice and an opportunity for public comment. EPA has determined that there is good cause for making today's technical amendment final without prior proposal and opportunity for comment. A complete description of the types of changes that are being made has been provided above. EPA has determined that there is no need for public comment on such ministerial changes and thus that there is good cause under 5 U.S.C. 553(b)(B) for dispensing with public comment. While EPA believes that it has correctly identified all instances where these above-listed revisions need to be made, the Agency would appreciate readers notifying EPA of discrepancies, omissions, or technical problems by submitting them to the address or e-mail under FOR FURTHER INFORMATION CONTACT. These will be corrected in a future rule.

III. Statutory and Executive Order Reviews

This final rule makes technical amendments to the Code of Federal Regulations which have no substantive impact on the underlying regulations, and it does not otherwise impose or amend any requirements. As such, the Office of Management and Budget (OMB) has determined that a technical amendment is not a “significant regulatory action” subject to review by OMB under Executive Order 12866, entitled Regulatory Planning and Review (58 FR 51735, October4, 1993). Because this final rule has been exempted from review under Executive Order 12866 due to its lack of significance, this final rule is not subject to Executive Order 13211, Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any Agency action under Executive Order 13045, entitled Protection of Children from Environmental Health Risks and Safety Risks (62 FR 19885, April 23,1997). This action does not involve any technical standards that would require Agency consideration of voluntary consensus standards pursuant to section 12(d) of the National Technology Transfer and Advancement Act of 1995 (NTTAA), Public Law 104-113, section 12(d)(15 U.S.C. 272 note). The Regulatory Flexibility Act (RFA) (5 U.S.C. 601et seq.) generally requires an agency to prepare a regulatory flexibility analysis of any rule subject to notice and comment rulemaking requirements under the Administrative Procedure Act or any other statute unless the agency certifies that the rule will not have a significant impact on a substantial number of small entities. Small entities include small businesses, small organizations, and small governmental organizations. After considering the economic impacts of today's final rule on small entities, I certify that this action will not have a significant economic impact on a substantial number of small entities. This action makes technical amendments to the Code of Federal Regulations which have no substantive impact on the underlying regulations. This technical amendment will not have any negative economic impact on any entities, including small entities. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications”is defined in the Executive Order to include regulations that have“substantial direct effects on the States, on the relationship between the national government and the States, or on the distribution of power and responsibilities among the various levels of government.” This final rule directly regulates growers, food processors, food handlers and food retailers, not States. This action does not alter the relationships or distribution of power and responsibilities established by Congress in the preemption provisions of section 408(n)(4) of the FFDCA. For these same reasons, the Agency has determined that this final rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” isdefined in the Executive Order to include regulations that have“substantial direct effects on one or more Indian tribes, on the relationship between the Federal Government and the Indian tribes, or on the distribution of power and responsibilities between the Federal Government and Indian tribes.” This final rule will not have substantial direct effects on tribal governments, on the relationship between the Federal Government and Indian tribes, or on the distribution of power and responsibilities between the Federal Government and Indian tribes, as specified in Executive Order 13175. Thus, Executive Order 13175 does not apply to this final rule.

IV. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

Lists of Subjects in 40 CFR Part 180

Environmental protection, Administrative practice and procedure, Agricultural commodities, Pesticides and pest, Reporting and recordkeeping requirements.

Dated: June 15, 2007.
Debra Edwards,
Director, Office of Pesticide Programs.

Therefore, 40 CFR chapter I, part 180 is amended as follows:

PART 180

—[AMENDED]

1. The authority citation for part 180 continues to read as follows:

Authority: 21 U.S.C. 321(q), 346a, and 371.

2. Part 180 is amended as follows:

In Section | In paragraph | Remove the entry
180.111 | (a)(1) table | Almonds, shells
180.163 | (a) table | Hay, spearmint
180.213 | (a)(1) table | Alfalfa
180.213 | (a)(1) table | Bermuda grass
180.213 | (a)(1) table | Grass
180.227 | (a)(1) table | Corn, forage
180.227 | (a)(1) table | Corn, stover
180.462 | (a) table | Corn, forage
180.484 | (a)(1) table | Goat, milk
180.484 | (a)(1) table | Hog, milk
180.484 | (a)(1) table | Horse, milk

§ 180.106 [Amended]

3. In § 180.106 the table to paragraph (a)(1), by removing one of the two entries for “Rye, forage.”

§ 180.121 [Amended]

4. In § 180.121, the table to paragraph (e), by removing one of the two entries for “Peach.”

§ 180.220 [Amended]

5. In § 180.220, the table to paragraph (a)(1), by removing one of the two entries for “Wheat, straw.”

§ 180.253 [Amended]

6. In § 180.253, the table to paragraph (a), by removing one of the two entries for “Rye, forage.”

§ 180.324 [Amended]

7. In § 180.324, the table to paragraph (a)(1), by removing one of the two entries for “Corn, field, stover.”

§ 180.408 [Amended]

8. In § 180.408, the table to paragraph (a), by removing one of the two entries for “Peanut, hay;” and in the table to paragraph (d) by removing one of the two entries for “Oat, straw;” and one of the two entries for “Wheat, straw.”

[FR Doc. E7-12645 Filed 6-28-07; 8:45 a.m.]

BILLING CODE 6560-50-S